DEPARTMENT OF HOMELAND SECURITY

Federal Emergency Management Agency

[Docket ID FEMA-2020-0002; Internal Agency Docket No. FEMA-B-2049]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arkansas:
Sebastian. | City of Fort Smith (19-06-3706P). | The Honorable George B. McGill, Mayor, City of Fort Smith, P.O. Box 1908, Fort Smith, AR 72902. | Department of Engineering, 623 Garrison Avenue, Fort Smith, AR 72901. | https://msc.fema.gov/portal/advanceSearch. | Oct. 14, 2020 | 055013
Colorado:
Boulder. | City of Boulder (19-08-0976P). | The Honorable Sam Weaver, Mayor, City of Boulder, 1777 Broadway Street, Boulder, CO 80302. | Central Records Department, 1777 Broadway Street, Boulder, CO 80302. | https://msc.fema.gov/portal/advanceSearch. | Oct. 30, 2020 | 080024
Boulder. | Unincorporated areas of Boulder County (19-08-0976P). | The Honorable Deb Gardner, Chair, Boulder County Board of Commissioners, P.O. Box 471, Boulder, CO 80306. | Boulder County Department of Public Works, 1739 Broadway, Suite 300, Boulder, CO 80306. | https://msc.fema.gov/portal/advanceSearch. | Oct. 30, 2020 | 080023
Denver. | City and County of Denver (20-08-0456P). | The Honorable Michael B. Hancock, Mayor, City and County of Denver, 1437 North Bannock Street, Room 350, Denver, CO 80202. | Department of Public Works, 201 West Colfax Avenue, Denver, CO 80202. | https://msc.fema.gov/portal/advanceSearch. | Nov. 23, 2020 | 080046
Larimer. | Unincorporated areas of Larimer County (20-08-0140P). | The Honorable Steve Johnson, Chairman, Larimer County Board of Commissioners, 200 West Oak Street, Suite 2200, Fort Collins, CO 80521. | Larimer County Engineering Department, 200 West Oak Street, Suite 3000, Fort Collins, CO 80521. | https://msc.fema.gov/portal/advanceSearch. | Oct. 13, 2020 | 080101
Connecticut:
Fairfield. | Town of Westport (19-01-1183P). | The Honorable James Marpe, First Selectman, Town of Westport Board of Selectmen, 110 Myrtle Avenue, Westport, CT 06880. | Planning and Zoning Department, 110 Myrtle Avenue, Westport, CT 06880. | https://msc.fema.gov/portal/advanceSearch. | Oct. 13, 2020 | 090019
Florida:
Collier. | City of Marco Island (20-04-2874P). | Mr. Michael T. McNees, Manager, City of Marco Island, 50 Bald Eagle Drive, Marco Island, FL 34145. | Building Services Department, 50 Bald Eagle Drive, Marco Island, FL 34145. | https://msc.fema.gov/portal/advanceSearch. | Nov. 9, 2020 | 120426
Duvall. | City of Jacksonville (20-04-0754P). | The Honorable Lenny Curry, Mayor, City of Jacksonville, 117 West Duval Street, Suite 400, Jacksonville, FL 32202. | Development Services Division, 214 North Hogan Street, Jacksonville, FL 32202. | https://msc.fema.gov/portal/advanceSearch. | Nov. 10, 2020 | 120077
Lee. | City of Bonita Springs (19-04-5595P). | The Honorable Peter Simmons, Mayor, City of Bonita Springs, 9101 Bonita Beach Road, Bonita Springs, FL 34135. | Community Development Department, 9220 Bonita Beach Road, Bonita Springs, FL 34135. | https://msc.fema.gov/portal/advanceSearch. | Oct. 13, 2020 | 120680
Lee. | Town of Fort Myers Beach (20-04-1546P). | The Honorable Ray Murphy, Mayor, Town of Fort Myers Beach, 2525 Estero Boulevard, Fort Myers Beach, FL 33931. | Community Development Department, 2525 Estero Boulevard, Fort Myers Beach, FL 33931. | https://msc.fema.gov/portal/advanceSearch. | Oct. 22, 2020 | 120673
Lee. | Unincorporated areas of Lee County (19-04-5595P). | Mr. Roger Desjarlais, Manager, Lee County, 2120 Main Street, Fort Myers, FL 33901. | Lee County Building Department, 1500 Monroe Street, Fort Myers, FL 33901. | https://msc.fema.gov/portal/advanceSearch. | Oct. 13, 2020 | 125124
Georgia:
Gwinnett. | Unincorporated areas of Gwinnett County (19-04-6977P). | The Honorable Charlotte J. Nash, Chair, Gwinnett County Board of Commissioners, 751 Langley Drive, Lawrenceville, GA 30046. | Gwinnett County Department of Planning and Development, 446 West Crogan Street, Lawrenceville, GA 30046. | https://msc.fema.gov/portal/advanceSearch. | Oct. 15, 2020 | 130322
Richmond. | City of Augusta (19-04-6697P). | The Honorable Hardie Davis, Jr., Mayor, City of Augusta, 535 Telfair Street, Suite 200, Augusta, GA 30901. | Planning and Development Department, 535 Telfair Street, Suite 300, Augusta, GA 30901. | https://msc.fema.gov/portal/advanceSearch. | Oct. 30, 2020 | 130158
Maine:
Washington. | Town of Addison (20-01-0671P). | The Honorable Verlan R. Lenfestey Jr., Chairman, Town of Addison Board of Selectmen, P.O. Box 142, Addison, ME 04606. | Town Hall, 334 Water Street, Addison, ME 04606. | https://msc.fema.gov/portal/advanceSearch. | Nov. 12, 2020 | 230132
Washington. | Town of Cherryfield (20-01-0670P). | The Honorable Arthur Tatangelo, Chairman, Town of Cherryfield Board of Selectmen, P.O. Box 58, Cherryfield, ME 04622. | Town Hall, 12 Municipal Way, Cherryfield, ME 04622. | https://msc.fema.gov/portal/advanceSearch. | Nov. 12, 2020 | 230135
Washington. | Town of Columbia (20-01-0671P). | The Honorable Harry Beal, Jr., Chairman, Town of Columbia Board of Selectmen, 106 Epping Road, Columbia, ME 04623. | Town Hall, 106 Epping Road, Columbia, ME 04623. | https://msc.fema.gov/portal/advanceSearch. | Nov. 12, 2020 | 230307
Washington. | Town of Columbia Falls (20-01-0671P). | The Honorable Nancy Bagley, Chair, Town of Columbia Falls Board of Selectmen, P.O. Box 100, Columbia Falls, ME 04623. | Town Hall, 8 Point Street, Columbia Falls, ME 04623. | https://msc.fema.gov/portal/advanceSearch. | Nov. 12, 2020 | 230308
Washington. | Town of East Machias (20-01-0668P). | The Honorable Kenneth Davis, Jr., Chairman, Town of East Machias Board of Selectmen, P.O. Box 117, East Machias, ME 04630. | Town Hall, 32 Cutler Road, East Machias, ME 04630. | https://msc.fema.gov/portal/advanceSearch. | Nov. 12, 2020 | 230313
Washington. | Town of Harrington (20-01-0671P). | The Honorable Joel Strout, Chairman, Town of Harrington Board of Selectmen, P.O. Box 142, Harrington, ME 04643. | Town Hall, 114 East Main Street, Harrington, ME 04643. | https://msc.fema.gov/portal/advanceSearch. | Nov. 12, 2020 | 230314
Washington. | Town of Jonesboro (20-01-0668P). | The Honorable Michael Schoppee, Chairman, Town of Jonesboro Board of Selectmen, P.O. Box 86, Jonesboro, ME 04684. | Town Hall, 23 Station Road, Jonesboro, ME 04684. | https://msc.fema.gov/portal/advanceSearch. | Nov. 12, 2020 | 230315
Washington. | Town of Jonesboro (20-01-0671P). | The Honorable Michael Schoppee, Chairman, Town of Jonesboro Board of Selectmen, P.O. Box 86, Jonesboro, ME 04684. | Town Hall, 23 Station Road, Jonesboro, ME 04684. | https://msc.fema.gov/portal/advanceSearch. | Nov. 12, 2020 | 230315
Washington. | Town of Marshfield (20-01-0668P). | The Honorable Robert Carter, Chairman, Town of Marshfield Board of Selectmen, 187 Northfield Road, Marshfield, ME 04654. | Town Hall, 187 Northfield Road, Marshfield, ME 04654. | https://msc.fema.gov/portal/advanceSearch. | Nov. 12, 2020 | 230316
Washington. | Town of Steuben (20-01-0670P). | The Honorable Larry Pinkham, Chairman, Town of Steuben Board of Selectmen, 294 U.S. Route 1, Steuben, ME 04680. | Town Hall, 294 U.S. Route 1, Steuben, ME 04680. | https://msc.fema.gov/portal/advanceSearch. | Nov. 12, 2020 | 230323
Washington. | Town of Whitneyville (20-01-0668P). | The Honorable Nate Perry, Chairman, Town of Whitneyville Board of Selectmen, 42 South Main Street Whitneyville, ME 04654. | Town Hall, 42 South Main Street, Whitneyville, ME 04654. | https://msc.fema.gov/portal/advanceSearch. | Nov. 12, 2020 | 230329
Mississippi:
Harrison. | City of Long Beach (20-04-3634P). | The Honorable George L. Bass, Mayor, City of Long Beach, 201 Jeff Davis Avenue, Long Beach, MS 39560. | Department of Permits and Zoning, 201 Jeff Davis Avenue, Long Beach, MS 39560. | https://msc.fema.gov/portal/advanceSearch. | Oct. 13, 2020 | 285257
New Hampshire: Hillsborough. | City of Manchester (20-01-0142P). | The Honorable Joyce Craig, Mayor, City of Manchester, One City Hall Plaza, Manchester, NH 03101. | City Hall, One City Hall Plaza, Manchester, NH 03101. | https://msc.fema.gov/portal/advanceSearch. | Nov. 9, 2020 | 330169
North Carolina:
Wayne. | City of Goldsboro (20-04-0269P). | The Honorable Chuck Allen, Mayor, City of Goldsboro, 200 North Center Street, Goldsboro, NC 27530. | City Hall, 200 North Center Street, Goldsboro, NC 27530. | https://msc.fema.gov/portal/advanceSearch. | Oct. 9, 2020 | 370255
Wayne. | Unincorporated areas of Wayne County (20-04-0269P). | The Honorable E. Ray Mayo, Chairman, Wayne County Board of Commissioners, 224 East Walnut Street, Goldsboro, NC 27530. | Wayne County Planning Department, 134 North John Street, 3rd Floor, Goldsboro, NC 27530. | https://msc.fema.gov/portal/advanceSearch. | Oct. 9, 2020 | 370254
Pennsylvania:
Chester. | Township of Easttown (20-03-0073P). | The Honorable James W. Oram, Jr., Chairman, Township of Easttown Board of Supervisors, 566 Beaumont Road, Devon, PA 19333. | Township Hall, 566 Beaumont Road, Devon, PA 19333. | https://msc.fema.gov/portal/advanceSearch. | Oct. 30, 2020 | 422600
South Dakota:
Custer. | City of Custer (20-08-0443P). | The Honorable Corbin Herman, Mayor, City of Custer, 622 Crook Street, Custer, SD 57730. | Planning and Building Department, 622 Crook Street, Custer, SD 57730. | https://msc.fema.gov/portal/advanceSearch. | Oct. 22, 2020 | 460019
Custer. | Unincorporated areas of Custer County (20-08-0443P). | The Honorable Jim Lintz, Chairman, Custer County Board of Commissioners, 420 Mount Rushmore Road, Custer, SD 57730. | Custer County Department of Planning and Economic Development, 420 Mount Rushmore Road, Custer, SD 57730. | https://msc.fema.gov/portal/advanceSearch. | Oct. 22, 2020 | 460018
Pennington. | City of Rapid City (20-08-0020P). | The Honorable Steve Allender, Mayor, City of Rapid City, 300 6th Street, Rapid City, SD 57701. | Public Works Department, Engineering Services Division, 300 6th Street, Rapid City, SD 57701. | https://msc.fema.gov/portal/advanceSearch. | Oct. 19, 2020 | 465420
Texas:
Bell. | City of Nolanville (19-06-1647P). | The Honorable Andy Williams, Mayor, City of Nolanville, 101 North 5th Street, Nolanville, TX 76559. | City Hall, 101 North 5th Street, Nolanville, TX 76559. | https://msc.fema.gov/portal/advanceSearch. | Oct. 14, 2020 | 480032
Bexar. | City of Converse (19-06-1746P). | The Honorable Al Suarez, Mayor, City of Converse, 403 South Seguin, Converse, TX 78109. | City Hall, 403 South Seguin, Converse, TX 78109. | https://msc.fema.gov/portal/advanceSearch. | Oct. 19, 2020 | 480038
Bexar. | City of San Antonio (19-06-4014P). | The Honorable Ron Nirenberg, Mayor, City of San Antonio, P.O. Box 839966, San Antonio, TX 78283. | Transportation and Capital Improvements Department, Storm Water Division, 114 West Commerce Street, 7th Floor, San Antonio, TX 78205. | https://msc.fema.gov/portal/advanceSearch. | Oct. 26, 2020 | 480045
Bexar. | City of Universal City (19-06-1746P). | The Honorable John Williams, Mayor, City of Universal City, 2150 Universal City Boulevard, Universal City, TX 78148. | Department of Stormwater, 2150 Universal City Boulevard, Universal City, TX 78148. | https://msc.fema.gov/portal/advanceSearch. | Oct. 19, 2020 | 480049
Bexar. | Unincorporated areas of Bexar County (19-06-3557P). | The Honorable Nelson W. Wolff, Bexar County Judge, 101 West Nueva Street, 10th Floor, San Antonio, TX 78205. | Bexar County Public Works Department, 1948 Probandt Street, San Antonio, TX 78214. | https://msc.fema.gov/portal/advanceSearch. | Oct. 26, 2020 | 480035
Bexar. | Unincorporated areas of Bexar County (19-06-4014P). | The Honorable Nelson W. Wolff, Bexar County Judge, 101 West Nueva Street, 10th Floor, San Antonio, TX 78205. | Bexar County Public Works Department, 1948 Probandt Street, San Antonio, TX 78214. | https://msc.fema.gov/portal/advanceSearch. | Oct. 26, 2020 | 480035
Collin. | City of McKinney (20-06-0689P). | The Honorable George Fuller, Mayor, City of McKinney, P.O. Box 517, McKinney, TX 75070. | Engineering Department, 221 North Tennessee Street, McKinney, TX 75069. | https://msc.fema.gov/portal/advanceSearch. | Nov. 2, 2020 | 480135
Fort Bend. | Unincorporated areas of Fort Bend County (20-06-0547P). | The Honorable K.P. George, Fort Bend County Judge, 301 Jackson Street, 4th Floor, Richmond, TX 77469. | Fort Bend County Engineering Department, 301 Jackson Street, 4th Floor, Richmond, TX 77469. | https://msc.fema.gov/portal/advanceSearch. | Oct. 30, 2020 | 480228
Tarrant. | City of Colleyville (20-06-1166P). | The Honorable Richard Newton, Mayor, City of Colleyville, 100 Main Street, Colleyville, TX 76034. | City Hall, 100 Main Street, Colleyville, TX 76034. | https://msc.fema.gov/portal/advanceSearch. | Nov. 12, 2020 | 480590
Tarrant. | City of Crowley (20-06-0069P). | The Honorable Billy P. Davis, Mayor, City of Crowley, 201 East Main Street, Crowley, TX 76036. | Department of Community Development, 201 East Main Street, Crowley, TX 76036. | https://msc.fema.gov/portal/advanceSearch. | Oct. 26, 2020 | 480591
Williamson. | City of Leander (19-06-3344P). | Mr. Rick Beverlin, Manager, City of Leander, 105 North Brushy Street, Leander, TX 78641. | City Hall, 105 North Brushy Street, Leander, TX 78641. | https://msc.fema.gov/portal/advanceSearch. | Oct. 30, 2020 | 481536
Williamson. | City of Leander (19-06-3660P). | Mr. Rick Beverlin, Manager, City of Leander, 105 North Brushy Street, Leander, TX 78641. | City Hall, 105 North Brushy Street, Leander, TX 78641. | https://msc.fema.gov/portal/advanceSearch. | Oct. 30, 2020 | 481536
Utah:
Salt Lake. | City of Riverton (20-08-0458P). | The Honorable Trent Staggs, Mayor, City of Riverton, 12830 South Redwood Road, Riverton, UT 84065. | Public Works Department, 12526 South 4150 West, Riverton, UT 84065. | https://msc.fema.gov/portal/advanceSearch. | Oct. 22, 2020 | 490104
Summit. | Unincorporated areas of Summit County (19-08-1037P). | The Honorable Doug Clyde, Chairman, Summit County Council, P.O. Box 128, Coalville, UT 84017. | Summit County Government Office, 60 North Main Street, Coalville, UT 84017. | https://msc.fema.gov/portal/advanceSearch. | Oct. 29, 2020 | 490134

[FR Doc. 2020-18424 Filed 8-20-20; 8:45 am]

BILLING CODE 9110-12-P